NATIONAL SCIENCE FOUNDATION

Sunshine Act Meetings

The National Science Board (NSB) hereby gives notice of the scheduling of meetings for the transaction of National Science Board business pursuant to the National Science Foundation Act and the Government in the Sunshine Act.

TIME AND DATE: Wednesday, May 7, 2025, from 12:10 p.m.-5:00 p.m. Eastern.

PLACE: The meetings will be held by videoconference through NSF headquarters, 2415 Eisenhower Avenue, Alexandria, VA 22314. The open session of the meeting will be webcast live on the NSB YouTube channel.

May 7, 2025: https://www.youtube.com/watch?v=I1PE8xRJ3MM.

STATUS: Some of the sessions will be open and others will be closed to the public. See the full description below.

MATTERS TO BE CONSIDERED:

Wednesday, May 7, 2025

Plenary Board Meeting

Executive Closed Session: 12:10 p.m.-1:30 p.m.

• Acting Chair's Opening Remarks about the agenda

• Approval of closed Executive Plenary Closed minutes—February 2025

• NSF Director Transition and Recommendations

• Board Priorities and Efficiencies

• Executive Committee Election

Lunch Break: 1:30 p.m.-2:15 p.m.

Plenary Board Meeting

Closed session: 2:15 p.m.-2:50 p.m.

• Acting Chair's Opening Remarks about the agenda

• Approval of Plenary Closed minutes—February 2025

• Reports

○ Business Taskforce

○ Merit Review Commission Update

○ Committee on Oversight, Committee on Strategy, and Committee on Awards & Facilities

Break: 2:50 p.m.-3:00 p.m.

Plenary Board Meeting

Open session: 3:00 p.m.-3:30 p.m.

• Acting Chair's Opening Remarks

○ Acknowledgements

○ NSF's 75th anniversary

○ MRX Update

○ Activities Report

• Indicators 2026 Update

• NSF Fellows Partnership Opportunity

Break: 3:30 p.m.-4:00 p.m.

Open Session Resumes: 4:00 p.m.-5:00 p.m.

• Science for Security—The Race with China Jimmy Goodrich, RAND Corporation

Plenary Board Meeting Adjourns: 5:00 p.m. Eastern

PORTIONS OPEN TO THE PUBLIC:

Wednesday, May 7, 2025

3:00 p.m.-3:30 p.m. Plenary NSB

4:00 p.m.-5:00 p.m. Plenary NSB

PORTIONS CLOSED TO THE PUBLIC:

Wednesday, May 7, 2025

12:10 p.m.-1:30 p.m. Executive Plenary NSB

2:15 p.m.-2:50 p.m. Plenary NSB

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from the times noticed by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Christopher Blair,
Executive Assistant to the National Science Board Office.

[FR Doc. 2025-08017 Filed 5-5-25; 11:15 am]

BILLING CODE 7555-01-P